SECURITIES AND EXCHANGE COMMISSION

[File No.500-1]

Sedona Software Solutions Inc.; Order of Suspension of Trading

January 29, 2003.

It appears to the Securities and Exchange Commission that there is a lack of current and accurate information concerning the securities of Sedona Software Solutions Inc. (“Sedona”), trading under the stock symbol SSSI. Questions have been raised regarding the accuracy and completeness of information about Sedona on Internet websites, in press releases, and in other sources publicly available to investors concerning, among other things, Sedona's planned merger with Renaissance Mining Corp. (“Renaissance”), a privately-held company; the assets and business operations of Renaissance; and trading in Sedona common stock in connection with the announced merger.

The Commission is of the opinion that the public interest and the protection of investors require a suspension of trading in the securities of the above listed company.

Therefore, it is ordered, pursuant to section 12(k) of the Securities Exchange Act of 1934, that trading in the above listed company is suspended for the period from 3 p.m. EST, January 29, 2003, through 11:59 p.m. EST, on February 11, 2003.

By the Commission.
Jill M. Peterson,
Assistant Secretary.

[FR Doc. 03-2479 Filed 1-30-03; 10:43 am]

BILLING CODE 8010-01-P